SECURITIES AND EXCHANGE COMMISSION

[File No. 500-1]

In the Matter of Continan Communications, Inc.; Order of Suspension of Trading

April 1, 2009.

It appears to the Securities and Exchange Commission that the public interest and the protection of investors require a suspension of trading in the securities of Continan Communications, Inc. (“Continan”). Questions have been raised about the accuracy and adequacy of publicly disseminated information concerning, among other things, the current liabilities of the company. Continan securities are quoted on the OTC Bulletin Board and the Pink Sheets operated by Pink OTC Markets Inc. under the trading symbol CNTN.

The Commission is of the opinion that the public interest and the protection of investors require a suspension of trading in the securities of the above-listed company.

Therefore, it is ordered, pursuant to Section 12(k) of the Securities Exchange Act of 1934, that trading in the securities of Continan is suspended for the period from 9:30 a.m. EDT on April 1, 2009, through 11:59 p.m. EDT on April 15, 2009.

By the Commission.
Elizabeth M. Murphy,
Secretary.

[FR Doc. E9-7646 Filed 4-1-09; 4:15 pm]

BILLING CODE 8010-01-P